ENVIRONMENTAL PROTECTION AGENCY

[FRL-9447-8]

Notice of Utah Adoption by Reference of the Pesticide Container Containment Rule

AGENCY: Environmental Protection Agency (EPA).

ACTION: Notice.

SUMMARY: This notice is provided to formally acknowledge the State of Utah's adoption by reference of the federal Pesticide Container Containment (PCC) Rule regulations. In accordance with State of Utah Agricultural Code, the Utah Department of Agriculture and Food adopted the applicable portions of 40 CFR part 152, subpart A, § 152.3, and Part 165, subparts A through E. The State did not request any modification to the federal PCC rules, and with this notice, the EPA Region 8, is formally announcing the adoption by reference with no modifications.

FOR FURTHER INFORMATION CONTACT: VelRey Lozano, EPA Region 8, telephone number: (303) 312-6128; e-mail address: lozano.velrey@epa.gov or Clark Burgess, Utah Department of Agriculture and Food (UDAF), telephone number: (801) 538-7188; e-mail address: cburgess@utah.gov.

Authority: 7 U.S.C. 136 et seq. (1996).

Dated: July 21, 2011.
James B. Martin,
Regional Administrator, Region 8.

[FR Doc. 2011-19697 Filed 8-2-11; 8:45 am]

BILLING CODE 6560-50-P